SOCIAL SECURITY ADMINISTRATION

20 CFR Parts 404 and 416

[Regulations Nos. 4 and 16]

RIN 0960-AF33

Revised Medical Criteria for Evaluating Immune System Disorders

AGENCY: Social Security Administration.

ACTION: Advance notice of proposed rulemaking.

SUMMARY: We are planning to update and revise the rules that we use to evaluate immune system disorders of adults and children who apply for, or receive, disability benefits under title II and Supplemental Security Income (SSI) payments based on disability under title XVI of the Social Security Act (the Act). The rules we plan on revising are sections 14.00 and 114.00 in the Listing of Impairments in appendix 1 to subpart P of part 404 of our regulations (the listings). We invite you to send us comments and suggestions for updating and revising these rules.

After we have considered your comments and suggestions, as well as information about advances in medical knowledge, treatment, and methods of evaluating immune system disorders, and our program experience, we intend to publish for public comment a Notice of Proposed Rulemaking (NPRM) that will propose specific revisions to the rules.

As part of our long-term planning for the disability programs, we are also interested in your ideas for how we may be able to improve our programs for people who have immune system disorders, especially those who would like to work.

DATES: To be sure your comments are considered, we must receive them by July 8, 2003.

ADDRESSES: You may give us your comments using: our Internet site facility (i.e., Social Security Online) at: http://policy.ssa.gov/pnpublic.nsf/LawsRegs; e-mail to regulations@ssa.gov; telefax to (410) 966-2830; or, by letter to the Commissioner of Social Security, P.O. Box 17703, Baltimore, Maryland 21235-7703. You may also deliver them to the Office of Regulations, Social Security Administration, 100 Altmeyer Building, 6401 Security Boulevard, Baltimore, Maryland 21235-6401, between 8 a.m. and 4:30 p.m. on regular business days. Comments are posted in our Internet site at http://policy.ssa.gov/pnpublic.nsf/LawsRegs, or you may inspect them on regular business days by making arrangements with the contact person shown in this preamble.

Electronic Version: The electronic file of this document is available on the date of publication in the Federal Register at http://www.access.gpo.gov/su_docs/aces/aces140.html. It is also available on the Internet site for SSA (i.e., Social Security Online): http://www.ssa.gov/regulations/.

FOR FURTHER INFORMATION CONTACT: Suzanne DiMarino, 100 Altmeyer Building, 6401 Security Boulevard, Baltimore, Maryland 21235-6401, (410) 965-1769 or TTY (410) 966-5609. For information on eligibility or filing for benefits, call our national toll-free number 1-800-772-1213 or TTY 1-800-325-0778, or visit our Internet Web site, Social Security Online, at www.ssa.gov.

SUPPLEMENTARY INFORMATION:

What Is the Purpose of This Notice?

We are planning to update and revise the rules that we use to evaluate immune system disorders of adults and children who apply for, or receive, disability benefits under title II and Supplemental Security Income (SSI) payments based on disability under title XVI of the Act. The purpose of this notice is to give you an opportunity to send us comments and suggestions for updating and revising those rules as we begin the rulemaking process. We are also asking for your comments and ideas about how we can improve our disability programs in the future for people with immune system disorders.

Who Should Send Us Comments and Suggestions?

We invite comments and suggestions from anyone who has an interest in the rules we use to evaluate claims for benefits filed by people who have immune system disorders. We are interested in getting comments and suggestions from people who apply for or receive benefits from us, members of the general public, advocates and organizations who advocate for people who have immune system disorders, experts in the evaluation of immune system disorders, researchers, people who make disability determinations for us, and any other people who may have ideas for us to consider.

Will We Respond to Your Comments from This Notice?

No, we will not respond directly to comments you send us because of this notice. However, after we consider your comments in response to this notice, along with other information such as medical research and our program experience, we will decide how to revise the rules we use to evaluate immune system disorders. When we propose specific revisions to the rules, we will publish an NPRM in the Federal Register. In accordance with the usual rulemaking procedures we follow, you will have a chance to comment on the revisions we propose when we publish the NPRM, and we will summarize and respond to the significant comments on the NPRM in the preamble to any final rules.

Which Rules Are We Considering for Updating and Revising?

We are considering two sections of our listings for revision, sections 14.00 and 114.00. These are the listings for immune disorders for adults (Part A, 14.00) and children (Part B, 114.00). It includes such disorders as HIV infection, other Immunoglobulin deficiency syndromes or deficiencies of cell-mediated immunity, Systemic Lupus Erythematosus, Scleroderma, Polymyositis, Inflammatory Arthritis, and other connective tissue disorders.

Where Can You Find These Rules on the Internet?

You can find these rules on our Internet site at these locations:

• Sections 14.00 and 114.00 are in the Listing of Impairments in appendix 1 to subpart P of part 404 of our regulations at: http://www.ssa.gov/OP_Home/cfr20/404/404-ap09.htm.

• You can also look up sections 14.00 and 114.00 at: http://www.ssa.gov/disability/professionals/bluebook/.

• If you do not have Internet access, you can find the Code of Federal Regulations in some public libraries, Federal depository libraries, and public law libraries.

Why Are We Updating and Revising Our Rules for Evaluating Immune System Disorders?

• The current listings for immune system disorders for adults (14.00) and children (114.00) will no longer be in effect on July 2, 2003, unless we extend them or revise and promulgate them again, so we must consider now whether to update and revise them.

We published final rules on July 2, 1993, which established body system listings in part A and part B of the listings for immune system disorders (58 FR 36008). We made those rules effective for five years from the date of publication, unless we extended them, or revised and issued them again (58 FR 36051). Since that time, we have extended the expiration date of the immune body system listings. Most recently, on June 28, 2001, we published rules that extended the effective date of the current immune system listings until July 2, 2003 (66 FR 34361). Although we published final rules in the Federal Register revising some of the immune system listings on November 19, 2001 (66 FR 58009), we have not comprehensively revised them since 1993.

We will be considering information from many sources, including the following recent documents, for relevance to our policy for evaluating immune system diseases.

• Kippel, J., Weyand, C., & Wortmann, R. (Eds.). (1997). Primer on the Rheumatic Diseases, (11th ed.). Atlanta: Arthritis Foundation.

• Davidson, A. & Diamond, B. (2001). Autoimmune Diseases. The New England Journal of Medicine, 345(5), 1-21.

• Marmont, A. (2000). New Horizons in the Treatment of Autoimmune Diseases: Immunoablation and Stem Cell Transplantation. Annual Reviews, 51, 115-134.

• Nash, R.A. (2000). Prospects of Stem Cell Transplantation in Autoimmune Diseases. Journal of Clinical Immunology, 20(1), 38-45.

• Sicherer, S.H. (et al.). (1998). Primary Immunodeficiency Diseases in Adults. Journal of American Medical Association, 279:58.

What Should You Comment About?

We are interested in any comments and suggestions you have for revising sections 14.00 and 114.00 of our listings. For example, with regard to our listings, we are interested in knowing if:

• You have concerns about any of the current listings provisions for adults or children; such as whether you think we should change any of our criteria or whether you think a listing is difficult to use or understand.

• You would like to see our listings include something that they do not include now.

You can also make any other comments or suggestions to help us improve our rules for evaluating claims for benefits filed by adults and children who have immune system disorders.

In addition to your comments about our regulations, we are also interested in any ideas you have about how the disability requirements of the Act and our regulations affect people who have immune system disorders, especially those who would like to work, full-time or part-time with supports. Your ideas can address our existing rules and regulations or suggest changes to the law. For example, we know that many people who have immune system disorders might not need benefits from us if they could get treatment before their disorders make them unable to work. Others may be unable to work but may not need to stay out of work indefinitely if they could get treatment or other interventions. Many people with permanent disorders can work if they have a supporting safety net (including title II disability benefits and SSI payments). Work can also be therapeutic for some people. Although the Act and our regulations include some access to health care through Medicare and Medicaid, some provision for vocational rehabilitation, and a number of work incentives, these provisions are generally for people who already qualify for benefits under our disability programs.

We are interested in your ideas for how we may be able to improve our programs for people who have immune system disorders, especially those who would like to work full-time or part-time with supports. Your ideas can address our existing rules and regulations or suggest changes to the law. We will consider your ideas as we develop the NPRM we intend to publish for public comment, and, where applicable, as part of our long-term planning for the disability program.

Other Information

Who Can Get Disability Benefits?

Under title II of the Act, we provide for the payment of disability benefits if you are disabled and belong to one of the following three groups:

• Workers insured under the Act,

• Children of insured workers, and

• Widows, widowers, and surviving divorced spouses (see 20 CFR 404.336) of insured workers.

Under title XVI of the Act, we provide for Supplemental Security Income (SSI) payments on the basis of disability if you are disabled and have limited income and resources.

How Do We Define Disability?

Under both the title II and title XVI programs, disability must be the result of any medically determinable physical or mental impairment or combination of impairments that is expected to result in death or which has lasted or is expected to last for a continuous period of at least 12 months. Our definitions of disability are shown in the following table:

If you file a claim under * * * | And you are * * * | Disability means you have a medically determinable impairment(s) as described above and that results in * * *
title II | an adult or a child | the inability to do any substantial gainful activity (SGA).
title XVI | a person age 18 or older | the inability to do any SGA.
title XVI | a person under age 18 | marked and severe functional limitations.

What Are the Listings?

The listings are examples of impairments that we consider severe enough to prevent a person from doing any gainful activity, or that result in “marked and severe functional limitations” in children seeking SSI payments under title XVI of the Act. Although we publish the listings only in appendix 1 to subpart P of part 404 of our rules, we incorporate them by reference in the SSI program in § 416.925 of our regulations, and apply them to claims under both title II and title XVI of the Act.

How Do We Use the Listings?

The listings are in two parts. There are listings for adults (part A) and for children (part B). If you are a person age 18 or over, we apply the listings in part A when we assess your claim, and we never use the listings in part B.

If you are a person under age 18, we first use the criteria in part B of the listings. If the listings in part B do not apply, and the specific disease process(es) has a similar effect on adults and children, we then use the criteria in part A. (See §§ 404.1525 and 416.925.)

If your impairment(s) does not meet any listing, we will also consider whether it medically equals any listing; that is, whether it is as medically severe. (See §§ 404.1526 and 416.926.)

We use the listings only to decide that people are disabled or that they are still disabled. We will never deny your claim or decide that you no longer qualify for benefits simply because your impairment(s) does not meet or medically equal a listing. If you have a severe impairment(s) that does not meet or medically equal any listing, we may still find you disabled based on other rules in the “sequential evaluation process” that we use to evaluate all disability claims. (See §§ 404.1520, 416.920, and 416.924.) If you have a severe impairment(s) that does not meet or medically equal any listing, we may still find you disabled based on other rules in the “sequential evaluation process” that we use to evaluate all disability claims. (See §§ 404.1520, 416.920, and 416.924.)

List of Subjects

20 CFR Part 404

Administrative practice and procedure, Blind, Disability benefits, Old-Age, Survivors, and Disability Insurance, Reporting and recordkeeping requirements, Social Security.

20 CFR Part 416

Administrative practice and procedure, Aged, Blind, Disability benefits, Public assistance programs, Supplemental Security Income (SSI), Reporting and recordkeeping requirements.

Dated: April 16, 2003.
Jo Anne B. Barnhart,
Commissioner of Social Security.

[FR Doc. 03-11491 Filed 5-8-03; 8:45 am]

BILLING CODE 4191-02-U